DEPARTMENT OF COMMERCE

National Oceanic and Atmospheric Administration

RIN 0648-XD552

New England Fishery Management Council; Public Meeting

AGENCY: National Marine Fisheries Service (NMFS), National Oceanic and Atmospheric Administration (NOAA), Commerce.

ACTION: Notice; public meeting.

SUMMARY: The New England Fishery Management Council's (Council) Risk Policy Working Group will meet to review scientific information affecting New England fisheries in the exclusive economic zone (EEZ).

DATES: The meeting will be held on Wednesday, November 5, 2014 beginning at 10 a.m.

ADDRESSES: The meeting will be held at the Holiday Inn, 300 Woodbury Ave., Portsmouth, NH 03801; telephone: (603) 431-8000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda Items

The Risk Policy Working Group will continue work on the Council's Risk Policy—discuss implementation and application of policy across all Council-managed species; discuss baseline conditions for Council-managed species, i.e., how risk is currently addressed; review available information and plan 2015 work and address other business as necessary.

Although non-emergency issues not contained in this agenda may come before this group for discussion, those issues may not be the subject of formal action during the meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies (see ADDRESSES) at least 5 days prior to the meeting date.

Authority: 16 U.S.C. 1801 et seq.

Dated: October 14, 2014.
Tracey L. Thompson,
Acting Deputy Director, Office of Sustainable Fisheries, National Marine Fisheries Service.

[FR Doc. 2014-24706 Filed 10-16-14; 8:45 am]

BILLING CODE 3510-22-P